FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on continuing information collections. In accordance with the Paperwork Reduction Act of 1995 (44 U.S.C. 3506(c)(2)(A)), this notice seeks comments concerning the collection of information from persons attending training courses conducted by the Emergency Management Institute (EMI) of the Federal Emergency Management Agency. This information is used to evaluate the effectiveness of EMI training conducted at the National Emergency Training Center in Emmitsburg, Maryland.

SUPPLEMENTARY INFORMATION: In order to provide quantified data for the Government Performance and Results Act on how we are accomplishing our mission, and to provide stimulus for improving our training courses, the Emergency Management Institute initiated collection of information on the benefits or lack of benefits, for training conducted. As a result, a one page form titled “Follow-Up Evaluation Survey” is sent to people attending training, three months after they complete the training. The survey asks participants to answer three questions.

Collection of Information

Title: Emergency Management Institute Follow-up Evaluation Survey.

Type of Information Collection: Revision of a currently approved Collection.

OMB Number: 3067-0273.

Form Number(s): 95-56.

Abstract: The Robert T. Stafford Disaster Relief and Emergency Act Public Law 93-288, as amended authorizes training programs for emergency mitigation, preparedness, response and recovery.

This information collection is needed to provide quantified data for the Government Performance and Results Act on how we are accomplishing our mission, and to provide stimulus for improving our training courses. The survey asks participants to describe the benefits of training received and if there were no benefits, to describe any difference in course materials or instruction that would have made the training more useful. The information is used to prepare reports on the benefits or lack of benefits for training conducted, and it is used to initiate reviews to improve training courses.

Affected Public: Federal Government; State, Local or Tribal Government.

Estimated Total Annual Burden Hours: 580 hours.

FEMA forms | Number of respondents | No. of responses (A) | Frequency of response (B) | Hours per response (C) | Annual burden hours (A × B × C)
95-56 | 5800 | 2320 | Per course | .25 | 580
Total | 5800 | 2320 | Per course | .25 | 580

Estimated Cost: Estimated cost for participants would be $16.00 hourly rate X.25 per response = $4.00. Total annualized costs to the Federal Government is approximately $11,604. to include postage costs, contract staff, and reproducing reports.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

Addresses: Interested persons should submit written comments to Muriel B. Anderson, Chief, Records Management Section, Program Services and Systems Branch, Facilities and Services Management Division, Administration and Resource Planning Directorate, Federal Emergency Management Agency, 500 C Street, SW., Room 316, Washington, DC 20472. Telephone number (202) 646-2625. Fax number (202) 646-3524 or email muriel.anderson@fema.gov.

For Further Information Contact: Contact Dennis Hickethier, Education Specialist, Emergency Management Institute, (301) 447-1148 for additional information. Contact Ms. Anderson at (202) 646-2625 for copies of the proposed collection of information.

Dated: August 22, 2001.
Reginald Trujillo,
Director, Program Services Division, Operations Support Directorate.

[FR Doc. 01-22100 Filed 8-31-01; 8:45 am]

BILLING CODE 6718-01-P